DEPARTMENT OF HEALTH AND HUMAN SERVICES

Centers for Disease Control and Prevention

Disease, Disability, and Injury Prevention and Control Special Emphasis Panel (SEP)—TS-20-001, Identify and Evaluate Potential Risk Factors for Amyotrophic Lateral Sclerosis; Amended Notice of Meeting

Notice is hereby given of a change in the meeting of the Disease, Disability, and Injury Prevention and Control Special Emphasis Panel (SEP)—RFA-TS-20-001, Identify and Evaluate Potential Risk Factors for Amyotrophic Lateral Sclerosis; May 13, 2020, 1:00 p.m.-5:30 p.m., EDT, in the original FRN.

Teleconference, Centers for Disease Control and Prevention, 4770 Buford Highway NE, Atlanta, Georgia 30341, which was published in the Federal Register on March 4, 2020, Volume 85, Number 43, pages 12786-12787.

The meeting is being amended to a virtual meeting with a meeting time of 9:30 a.m.-5:30 p.m., EDT. The meeting is closed to the public.

FOR FURTHER INFORMATION CONTACT: Kimberly Leeks, Ph.D., M.P.H., Scientific Review Official, NCIPC, CDC, 4770 Buford Highway NE, Building 106, MS S106-9, Atlanta, Georgia 30341, telephone: (770) 488-6562; KLeeks@cdc.gov.

The Director, Strategic Business Initiatives Unit, Office of the Chief Operating Officer, Centers for Disease Control and Prevention, has been delegated the authority to sign Federal Register notices pertaining to announcements of meetings and other committee management activities, for both the Centers for Disease Control and Prevention and the Agency for Toxic Substances and Disease Registry.

Kalwant Smagh,
Director, Strategic Business Initiatives Unit, Office of the Chief Operating Officer, Centers for Disease Control and Prevention.

[FR Doc. 2020-06781 Filed 3-31-20; 8:45 am]

BILLING CODE 4163-18-P